DEPARTMENT OF TRANSPORTATION

Surface Transportation Board

[STB Finance Docket No. 34808]

Chicago Port Railroad Company—Operation Exemption—Ozinga Transportation

Chicago Port Railroad Company (CPRR), a noncarrier, has filed a verified notice of exemption under 49 CFR 1150.31 to operate approximately 1.3 miles of rail line owned by Ozinga Transportation. The line consists of The Calumet River Yard and the Transload Facility trackage located adjacent to the Calumet River in Chicago, IL, and does not have milepost numbers.

CPRR certifies that its projected annual revenues as a result of the transaction do not exceed those that would qualify it as a Class III rail carrier.

The transaction was scheduled to be consummated prior to January 1, 2006, but consummation could lawfully occur no earlier than December 23, 2005, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34808, must be filed with the Surface Transportation Board, 1925 K Street, NW., Washington, DC 20423-0001. In addition, a copy of each pleading must be served on David C. Dillon, Dillon & Nash, Ltd., 111 West Washington Street, Suite 719, Chicago, IL 60602.

Board decisions and notices are available on our Web site at “http://www.stb.dot.gov.”

Decided: January 4, 2006.
By the Board, David M. Konschnik, Director, Office of Proceedings.
Vernon A. Williams,
Secretary.

[FR Doc. 06-232 Filed 1-11-06; 8:45 am]

BILLING CODE 4915-01-P